DEPARTMENT OF THE INTERIOR

Bureau of Land Management

[LLCOFO2000-L14300000.EU0000; COC-51328, COC-51330, COC-65294, COC-65295, COC-65297, COC-65298, COC-65299, COC-69189, COC-69191, COC-69193, COC-69205]

Notice of Realty Action: Proposed Non-Competitive (Direct) Sales of Public Lands, Boulder County, CO

AGENCY: Bureau of Land Management, Interior.

ACTION: Notice of Realty Action.

SUMMARY: The public lands described in this Notice consist of 11 small parcels ranging in size from 0.090 acres to 2.990 acres, totaling 9.39 acres in Boulder County, Colorado. The parcels are being considered for direct sale to parties at no less than the appraised fair market value (FMV) to resolve historical inadvertent, unauthorized occupancy of the parcels. No significant resource values will be affected by disposal of these parcels from Federal ownership. These sales are consistent with Bureau of Land Management (BLM) policies and the BLM Colorado Northeast Resource Management Plan, dated September 16, 1986, and have been reviewed with State and local officials.

DATES: Interested persons may submit written comments concerning the proposed sale to the BLM at the address stated below. Comments must be received by the BLM not later than June 7, 2010.

ADDRESSES: Written comments regarding these proposed sales should be addressed to the Bureau of Land Management Field Manager, Royal Gorge Field Office, 3028 East Main Street, Canon City, Colorado 81212.

FOR FURTHER INFORMATION CONTACT: Debbie Bellew, Realty Specialist, at (719) 269-8514 or by e-mail at dbellew@blm.gov.

SUPPLEMENTARY INFORMATION: The following described parcels of public land are proposed for sale:

Sixth Principal Meridian

T. 1 N., R. 71 W.,

COC-51328 Section 18: Proposed Lot 166—0.090 acres;

COC-51330 Section 18: Lots 42 and 68—0.390 acres;

COC-69189 Section 18: Proposed Lot 148—0.170 acres.

T. 1 N., R. 72 W.,

COC-65294 Section 7: Lot 119—0.530 acres;

COC-65295 Section 6: Lots 169 and 170—2.990 acres;

COC-65297 Section 7: Lot 121—1.610 acres;

COC-65298 Section 6: Lot 176—0.390 acres;

COC-65299 Section 6: Lot 152—0.420 acres;

COC-69191 Section 13: Lot 93—0.440 acres;

COC-69193 Section 13: Lot 96—0.270 acres;

COC-69205 Section 24: Lot 74—2.090 acres.

The areas described aggregate 9.39 acres in Boulder County.

The authority for the sales is Section 203 of the Federal Land Policy and Management Act (FLPMA) of October 21, 1976 (43 U.S.C. 1713) and regulations found at 43 CFR part 2710. The parcels are difficult and uneconomic to manage as part of the public lands and are not required for Federal purposes and therefore meet the qualifications for disposal from Federal ownership. The parcels were identified for disposal in the BLM Northeast Colorado Resource Management Plan approved on September 18, 1986. Regulations contained in 43 CFR 2711.3-3 make allowances for direct sales when a competitive sale is inappropriate and when the public interest would be best served by a direct sale, including a need to resolve inadvertent unauthorized use or occupancy of the lands. The fragmented land pattern in Boulder County has resulted in numerous historical trespass situations on public lands. As to the parcels described in this Notice, the BLM has completed a cadastral survey of the public land boundaries to verify the unauthorized uses. In accordance with 43 CFR 2710.0-6(c)(iii) and 43 CFR 2711.3-3(a), the BLM authorized officer finds that the public interest would be best served by resolving the inadvertent, unauthorized use and occupancy of public lands managed by the BLM by direct sales to landowners whose improvements occupy portions of the parcels. Sale of the parcels would assemble them to the respective parties' private land or improvements, allow them to continue residence in their homes where appropriate, protect their improvements, and resolve inadvertent unauthorized use and occupancy of public lands.

The parcels will be disposed of at no less than the appraised FMV. The FMV will be determined by an appraisal using the principles contained in the “Uniform Appraisal Standards for Federal Land Acquisitions.” Proceeds from this sale will be deposited into the Federal Land Disposal Account authorized under Section 206 of the Federal Land Transaction Facilitation Act (FLTFA), Public Law 106-248, enacted on July 25, 2000. FLTFA provides for the use of revenues from the sale of public lands identified for disposal under land use plans in effect as of the date of enactment (in this case the BLM Colorado Northeast Resource Management Plan dated September 16, 1986).

The land will be offered for sale as follows:

COC-51328, containing 0.090 acres; $1,500; direct sale to Julia Luckey;

COC-51330, containing 0.390 acres; $6,000; direct sale to Steven Johnson;

COC-65294, containing 0.530 acres; $11,000; direct sale to Harold Bonertz;

COC-65295, containing 2.990 acres; $30,000; direct sale to John and Jean Jandreau;

COC-65297, containing 1.610 acres; $30,000; direct sale to Timothy Zienkiewicz;

COC-65298, containing 0.390 acres; $8,000; direct sale to Duncan Developments, c/o David Tamminga;

COC-65299, containing 0.420 acres; $8,500; direct sale to Leaf and Holly Running Rabbit;

COC-69189, containing 0.170 acres; $2,500; direct sale to Philip Rubin;

COC-69191, containing 0.440 acres; $11,000; direct sale to Edward and Judy Dawson;

COC-69193, containing 0.270 acres; $4,000; direct sale to Robin Black;

COC-69205, containing 2.090 acres; $13,600; direct sale to Kraft Building Contractors, c/o Duane Kraft.

Federal law requires purchasers to be: Citizens of the United States, 18 years of age or older; corporations, subject to the laws of any State or of the United States; a State, or a State instrumentality or political subdivision authorized to hold property; or an entity legally capable of conveying lands or interests therein under the laws of the State. The purchaser of a parcel will be allowed 30 days from receipt of a written offer from the BLM to submit a deposit of at least 30 percent of the appraised FMV of the parcel, and 180 days thereafter to submit the balance. Payments must be in the form of a certified check, postal money order, bank draft, or cashier's check made payable in U.S. dollars to the order of the U.S. Department of the Interior—BLM. Personal checks will not be accepted. Failure to meet conditions established for this sale will void the sale and any monies received will be forfeited. If the balance of the purchase price is not received within the 180 days, the deposit shall be forfeited to the United States.

If the offer of sale is not accepted or if the balance of the purchase price is not received within the time allowed, the trespasser will be given 180 days to remove the improvements from public land. If the improvements are not removed in a timely manner, the BLM will have the option of taking possession of the improvements and having them removed at the trespasser's expense. Whether or not the improvements are removed, the parcels will then be offered to either Boulder County in a sale or exchange action, to other adjacent landowners by direct or modified competitive sale, or to the general public through a competitive sale pursuant to current Federal regulations.

Any patents issued will contain the following numbered reservations, covenants, terms, and conditions:

(1) A reservation to the United States for a right-of-way for ditches and canals constructed by the authority of the United States, Act of August 30, 1890 (43 U.S.C. 945),

(2) The parcels will be subject to all valid existing rights of record at the time of conveyance,

(3) A reservation of minerals and mineral interests to the United States as to cases COC-65294, COC-65295, COC-65299, and COC-69205.

(4) A notice and indemnification statement under the Comprehensive Environmental Response, Compensation and Liability Act (42 U.S.C. 9620), as amended by the Superfund Amendments and Reauthorization Act of 1988 (100 Stat. 1670), holding the United States harmless from any release of hazardous materials that may have occurred as a result of any authorized or unauthorized use of the property by other parties, and

(5) Additional terms and conditions that the authorized officer deems appropriate to ensure proper land use and protection of the public interest.

The mineral report recommends conveyance of any mineral interest pursuant to Section 209 of the FLPMA as to cases COC-51328, COC-51330, COC-65297, COC-65298, COC-69189, COC-69191, COC-69193.

No warranty of any kind, expressed or implied, is given by the United States as to the title, physical condition, or potential uses of the parcels of land proposed for sale, and the conveyance will not be on a contingency basis. In order to determine the value, through appraisal, certain extraordinary assumptions may have been made of the attributes and limitations of the lands and potential effects of local regulations and policies on potential future land uses. Through publication of this Notice of Realty Action, the BLM gives notice that these assumptions may not be endorsed or approved by units of local government. It is the buyer's responsibility to be aware of: (1) All applicable Federal, State, or local government laws, regulations and policies that may affect the subject parcels or its future uses, and (2) existing or prospective uses of nearby properties. When conveyed out of Federal ownership, the lands will be subject to any applicable laws, regulations, and policies of the applicable local government for proposed future uses. It will be the responsibility of the purchaser to be aware of those laws, regulations, and policies, and to seek any required local approvals for future uses. Buyers should also make themselves aware of any Federal or State law or regulation that may impact the future use of the property. If any parcel lacks access from a public road or highway, it will be conveyed as such, and future access acquisition will be the responsibility of the buyer.

Public Comments: For a period until June 7, 2010, interested parties and the general public may submit in writing any comments concerning the parcels being considered for direct sale, including notification of any encumbrances or other claims relating to the parcels, to the BLM Royal Gorge Field Manager at the above address. In order to ensure consideration in the environmental analysis of the proposed sale, comments must be in writing and postmarked or delivered within 45 days of the initial date of publication of this notice. Comments, including names and street addresses of respondents, will be available for public review at the BLM Royal Gorge Field Office during regular business hours. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM State Director, Colorado, who may sustain, vacate, or modify this realty action in whole or in part. In the absence of any adverse comments, this realty action will become the final determination of the Department of the Interior. Information concerning the proposed land sale, including reservations, appraisal, planning and environmental documents, and mineral report, is available for review at the BLM Royal Gorge Field Office at the address listed above. Normal business hours are 7:45 a.m. to 4:30 p.m., Monday through Friday, except Federal holidays.

The parcels will not be offered for sale until at least June 21, 2010.

Linda McGlothlen,
Acting Field Manager, Royal Gorge Field Office.

[FR Doc. 2010-9227 Filed 4-21-10; 8:45 am]

BILLING CODE 4310-JB-P